DEPARTMENT OF HEALTH AND HUMAN SERVICES

Administration on Aging

2005 White House Conference on Aging Policy Committee

AGENCY: Administration on Aging, HHS.

ACTION: Notice of meeting.

SUMMARY: Pursuant to Section 10(a) of the Federal Advisory Committee Act as amended (5 U.S.C. Appendix 2), notice is hereby given of the ninth Policy Committee meeting concerning adoption of the final report. The meeting will be open to the public, with attendance limited to space available. Individuals who plan to attend and need special assistance, such as sign language interpretation or other reasonable accommodations, should inform the contact person listed below in advance of the meeting. This notice is being published less than 15 days prior to the meeting due to scheduling problems.

DATES: The meeting will be held Tuesday, May 23, 2006, from 10 a.m. to 2 p.m.

ADDRESSES: The meeting will be held in the Executive Room at The Washington Court Hotel, 525 New Jersey Avenue, NW., Washington, DC 20001-1527

FOR FURTHER INFORMATION CONTACT: Emily Morrison at (301) 443-3457, or e-mail at Emily.Morrison@hhs.gov. Registration is not required. Seating is on a first come, first-served basis.

SUPPLEMENTARY INFORMATION: Pursuant to the Older Americans Act Amendments of 2000 (Pub. L. 106-501, November 2000), the Policy Committee will meet to finalize and adopt the Final Report of the 2005 White House Conference on Aging.

Dated: May 9, 2006.
Edwin L. Walker,
Deputy Assistant Secretary for Policy and Programs.

[FR Doc. E6-7253 Filed 5-11-06; 8:45 am]

BILLING CODE 4154-01-P